DEPARTMENT OF TRANSPORTATION

Federal Aviation Administration

14 CFR Part 39

[Docket No. FAA-2006-26324; Directorate Identifier 2006-NM-214-AD]

RIN 2120-AA64

Airworthiness Directives; Airbus Model A330 Airplanes

AGENCY: Federal Aviation Administration (FAA), Department of Transportation (DOT).

ACTION: Notice of proposed rulemaking (NPRM).

SUMMARY: The FAA proposes to supersede an existing airworthiness directive (AD) that applies to certain Airbus Model 330-300 series airplanes. The existing AD currently requires reinforcement of the structure of the center fuselage by installing external stiffeners (butt straps) at frame (FR) 53.3 on the fuselage skin between left-hand (LH) and right-hand (RH) stringer (STR) 13, and related investigative and corrective actions. This proposed AD would require additional reinforcement of the structure of the center fuselage by installing external stiffeners (butt straps) at frame FR53.3 on the fuselage skin between LH and RH STR13, and related investigative and other specified actions. This proposed AD also adds airplanes to the applicability. This proposed AD results from cracking found at the circumferential joint of FR53.3. We are proposing this AD to prevent fatigue cracking of the fuselage, which could result in reduced structural integrity of the fuselage.

DATES: We must receive comments on this proposed AD by December 15, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Airbus, 1 Rond Point Maurice Bellonte, 31707 Blagnac Cedex, France, for service information identified in this proposed AD.

FOR FURTHER INFORMATION CONTACT: Tim Backman, Aerospace Engineer, International Branch, ANM-116, FAA, Transport Airplane Directorate, 1601 Lind Avenue, SW., Renton, Washington 98057-3356; telephone (425) 227-2797; fax (425) 227-1149.

SUPPLEMENTARY INFORMATION:

Comments Invited

We invite you to submit any relevant written data, views, or arguments regarding this proposed AD. Send your comments to an address listed in the ADDRESSES section. Include the docket number “Docket No. FAA-2006-26324; Directorate Identifier 2006-NM-214-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On September 20, 2005, we issued AD 2005-20-07, amendment 39-14300 (70 FR 57732, October 4, 2005), for certain Airbus Model A330-300 series airplanes. That AD requires reinforcing the structure of the center fuselage by installing external stiffeners (butt straps) at frame (FR) 53.3 on the fuselage skin between left-hand (LH) and right-hand (RH) stringer (STR) 13, and doing related investigative and corrective actions. That AD resulted from a report that, during fatigue tests of the fuselage, cracks initiated and grew at the circumferential joint of FR53.3. We issued that AD to prevent fatigue cracking of the fuselage, which could result in reduced structural integrity of the fuselage.

Actions Since Existing AD Was Issued

Since we issued AD 2005-20-07, the European Aviation Safety Agency (EASA), which is the airworthiness authority for the European Union, notified us that further modification of Airbus Model A330-300 series airplanes is necessary to correct the unsafe condition identified in AD 2005-20-07. The EASA has also notified us that the same unsafe condition may also exist on Model A330-200 series airplanes.

Relevant Service Information

Airbus has issued Service Bulletin A330-53-3143, Revision 01, including Appendix 01, dated June 29, 2006. The service bulletin describes procedures for reinforcing the structure of the center fuselage by installing external doublers (butt straps) at FR53.3 on the fuselage skin between LH and RH STR13, and doing related investigative and other specified actions. The related investigative actions are rototests of certain fastener holes after fastener removal. If any crack is found during a rototest, the service bulletin specifies contacting Airbus for repair instructions. If no crack is found, the service bulletin specifies doing other specified actions, which include counter-drilling the fastener holes in the butt straps, cold-expanding the matching holes in the fuselage, reaming and deburring the holes, shimming, and applying sealant around the butt straps. Accomplishing the actions specified in the service information is intended to adequately address the unsafe condition. The EASA mandated the service information and issued airworthiness directive 2006-0266, dated August 30, 2006, to ensure the continued airworthiness of these airplanes in the European Union.

FAA's Determination and Requirements of the Proposed AD

These airplane models are manufactured in France and are type certificated for operation in the United States under the provisions of section 21.29 of the Federal Aviation Regulations (14 CFR 21.29) and the applicable bilateral airworthiness agreement. As described in FAA Order 8100.14A, “Interim Procedures for Working with the European Community on Airworthiness Certification and Continued Airworthiness,” dated August 12, 2005, the EASA has kept the FAA informed of the situation described above. We have examined the EASA's findings, evaluated all pertinent information, and determined that AD action is necessary for airplanes of this type design that are certificated for operation in the United States.

This proposed AD would supersede AD 2005-20-07 and would retain the requirements of the existing AD. This proposed AD would also add airplanes to the applicability. This proposed AD would also require accomplishing the actions specified in the service bulletin described previously, except as discussed under “Difference Between the Proposed AD and EASA Airworthiness Directive.”

Difference Between the Proposed AD and EASA Airworthiness Directive

The applicability of EASA airworthiness directive 2006-0266 excludes airplanes on which Airbus Service Bulletin A330-53-3127, Revision 01, dated November 21, 2003; or Airbus Service Bulletin A330-53-3143, dated December 24, 2004; has been accomplished in service. However, we have not excluded those airplanes in the applicability of this proposed AD; rather, this proposed AD includes requirements to accomplish the actions specified in those service bulletins, as applicable. These requirements would ensure that the actions specified in the service bulletins and required by this proposed AD are accomplished on all affected airplanes. Operators must continue to operate the airplane in the configuration required by this proposed AD unless an alternative method of compliance is approved.

Explanation of Change Made to Requirements of Existing AD

Paragraph (g) of the existing AD specifies making repairs using a method approved by either the FAA or the Direction Generale de l'Aviation Civile (DGAC) (or its delegated agent). The EASA has assumed responsibility for the airplane models that would be subject to this AD. Therefore, we have revised paragraph (g) of this proposed AD to specify making repairs using a method approved by the FAA, the DGAC (or its delegated agent), or the EASA (or its delegated agent).

Clarification of Airbus Modification Number

The applicability of AD 2005-20-07 exempts airplanes on which Airbus Modification 41652 had been incorporated in production. Airbus Modification 41652 is the abbreviated modification number of Airbus Modification 41652S11819. This proposed AD refers to Airbus Modification 41652S11819, as identified in EASA airworthiness directive 2006-0266.

Costs of Compliance

Currently, the action required by AD 2005-20-07 and retained in this proposed AD affects 12 airplanes of U.S. registry. However, we have been advised that all affected U.S. operators have already accomplished that action. If an affected airplane is imported and placed on the U.S. Register in the future, the action required by AD 2005-20-07 takes about 315 work hours per airplane, at an average labor rate of $80 per work hour. Required parts cost about $8,920. Based on these figures, the estimated cost of the currently required action is $34,120 per airplane.

The new proposed action would affect about 27 airplanes of U.S. registry. The new proposed action would take about 316 work hours per airplane, at an average labor rate of $80 per work hour. Required parts would cost about $9,160 per airplane. Based on these figures, the estimated cost of the new action specified in this proposed AD for U.S. operators is $929,880, or $34,440 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14300 (70 FR 57732, October 4, 2005) and adding the following new airworthiness directive (AD):

Airbus: Docket No. FAA-2006-26324; Directorate Identifier 2006-NM-214-AD.

Comments Due Date

(a) The FAA must receive comments on this AD action by December 15, 2006.

Affected ADs

(b) This AD supersedes AD 2005-20-07.

Applicability

(c) This AD applies to Airbus Model A330-201, -202, -203, -223, -243, -301, -321, -322, -323, -341, -342, and -343 airplanes, certificated in any category; except those on which Airbus Modification 49202 has been incorporated in production.

Unsafe Condition

(d) This AD results from cracking found at the circumferential joint of frame (FR) 53.3. We are issuing this AD to prevent fatigue cracking of the fuselage, which could result in reduced structural integrity of the fuselage.

Compliance

(e) You are responsible for having the actions required by this AD performed within the compliance times specified, unless the actions have already been done.

Requirements of AD 2005-20-07

Installation for Model A330-300 Series Airplanes

(f) For Airbus Model A330-301, -321, -322, -323, -341, -342, and -343 airplanes, except those on which Airbus Modification 41652S11819 has been incorporated in production: At the later of the times in paragraphs (f)(1) and (f)(2) of this AD, install the butt straps at FR53.3 on the fuselage skin between left-hand (LH) and right-hand (RH) stringer (STR) 13, and do all related investigative and corrective actions before further flight. Except as provided by paragraph (g) of this AD, do all actions in accordance with the Accomplishment Instructions of Airbus Service Bulletin A330-53-3127, Revision 01, dated November 21, 2003.

(1) Before the accumulation of 14,700 total flight cycles or 51,400 total flight hours, whichever occurs earlier.

(2) Within 6 months after October 19, 2005 (the effective date of AD 2005-20-07).

Contact the FAA/Direction Générale de l'Aviation Civile (DGAC)/European Aviation Safety Agency (EASA) for Certain Repair Instructions

(g) For Airbus Model A330-301, -321, -322, -323, -341, -342, and -343 airplanes, except those on which Airbus Modification 41652S11819 has been incorporated in production: If any crack is detected during the related investigative actions (rototest) required by paragraph (f) of this AD, before further flight, repair the crack according to a method approved by the Manager, International Branch, ANM-116, Transport Airplane Directorate, FAA; the DGAC (or its delegated agent); or the EASA (or its delegated agent).

New Requirements of This AD

Installation for Model A330-200 and -300 Series Airplanes

(h) For all airplanes: At the later of the times in paragraphs (h)(1) and (h)(2) of this AD, install the butt straps at FR53.3 on the fuselage skin between LH and RH STR13; and do all related investigative and other specified actions before further flight, as applicable. Do all actions in accordance with the Accomplishment Instructions of Airbus Service Bulletin A330-53-3143, Revision 01, including Appendix 01, dated June 29, 2006; except if any crack is detected during a related investigative action (rototest), before further flight, repair the crack using a method approved by the Manager, International Branch, ANM-116; or the EASA (or its delegated agent).

(1) Before the accumulation of 17,600 total flight cycles or 61,600 total flight hours, whichever occurs earlier.

(2) Within 6 months after the effective date of this AD.

Credit for Actions Done in Accordance With Previous Service Bulletin

(i) Actions done before the effective date of this AD in accordance with Airbus Service Bulletin A330-53-3143, including Appendix 01, dated December 24, 2004, are acceptable for compliance with the corresponding requirements of paragraph (h) of this AD.

Alternative Methods of Compliance (AMOCs)

(j)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(k) EASA airworthiness directive 2006-0266, dated August 30, 2006, also addresses the subject of this AD.

Issued in Renton, Washington, on November 7, 2006.
Ali Bahrami,
Manager, Transport Airplane Directorate, Aircraft Certification Service.

[FR Doc. E6-19228 Filed 11-14-06; 8:45 am]

BILLING CODE 4910-13-P